DEPARTMENT OF TRANSPORTATION

National Highway Traffic Safety Administration

[Docket No. NHTSA-2008-0185; Notice 2]

China Manufacturers Alliance, LLC, Grant of Petition for Decision of Inconsequential Noncompliance

China Manufacturers Alliance, LLC (CMA), as importer of record for Dynacargo brand truck and bus radial tires manufactured by Shandong Jinyu Tyre Company Limited (Jinyu) has determined that certain tires manufactured during the period May 2007 through June 2008 do not fully comply with paragraph S6.5(d) of 49 CFR 571.119 Federal Motor Vehicle Safety Standard (FMVSS) No. 119, New Pneumatic Tires for Motor Vehicles With a GVWR of More than 4,536 Kilograms (10,000 pounds) and Motorcycles. The affected tires were imported by CMA and sold to American Tire Distributors (ATD). CMA has filed an appropriate report pursuant to 49 CFR Part 573, Defect and Noncompliance Responsibility and Reports.

Pursuant to 49 U.S.C. 30118(d) and 30120(h) (see implementing rule at 49 CFR part 556), CMA has petitioned for an exemption from the notification and remedy requirements of 49 U.S.C. Chapter 301 on the basis that this noncompliance is inconsequential to motor vehicle safety. Notice of receipt of the petition was published, with a 30-day public comment period, on December 19, 2008, in the Federal Register (73 FR 77873). No comments were received. To view the petition and all supporting documents log onto the Federal Docket Management System Web site at: http://www.regulations.gov/. Then follow the online search instructions to locate docket number “NHTSA-2008-0185.”

For further information on this decision, contact Mr. George Gillespie, Office of Vehicle Safety Compliance, the National Highway Traffic Safety Administration (NHTSA), telephone (202) 366-5299, facsimile (202) 366-7002.

Affected are approximately 2,537 size 235/75R17.5/16 Dynacargo brand load range H truck and bus tires manufactured during the period May 2007 through June 2008 with DOT date codes in the range 1407 through 2608. 1,153 ¹ of these tires are currently under the control of ATD and 1,384 have been sold to consumers.

¹ CMA's petition, which was filed under 49 CFR Part 556, requests an agency decision to exempt CMA as importer from the notification and recall responsibilities of 49 CFR Part 573 for all 2,537 of the affected tires. However, the agency cannot relieve ATD as distributer of the prohibitions on the sale, offer for sale, or introduction or delivery for introduction into interstate commerce of the noncompliant tires currently under its control. Those tires must be brought into conformance, exported, or destroyed.

Paragraph S6.5(d) of 49 CFR 571.119 requires in pertinent part:

S6.5 Tire markings. Except as specified in this paragraph, each tire shall be marked on each sidewall with the information specified in paragraphs (a) through (j) of this section. The markings shall be placed between the maximum section width (exclusive of sidewall decorations or curb ribs) and the bead on at least one sidewall, unless the maximum section width of the tire is located in an area which is not more than one-fourth of the distance from the bead to the shoulder of the tire. If the maximum section width falls within that area, the markings shall appear between the bead and a point one-half the distance from the bead to the shoulder of the tire, on at least one sidewall. The markings shall be in letters and numerals not less than 2 mm (0.078 inch) high and raised above or sunk below the tire surface not less that 0.4 mm (0.015 inch), except that the marking depth shall be not less than 0.25 mm (0.010 inch) in the case of motorcycle tires. The tire identification and the DOT symbol labeling shall comply with part 574 of this chapter. Markings may appear on only one sidewall and the entire sidewall area may be used in the case of motorcycle tires and recreational, boat, baggage, and special trailer tires * * *

(d) The maximum load rating and corresponding inflation pressure of the tire, shown as follows:

(Mark on tires rated for single and dual load): Max load single __kg (__lb) at __kPa (__psi) cold. Max load dual __kg (__lb) at __kPa (__psi) cold.

(Mark on tires rated only for single load): Max load __kg (__lb) at __kPa (__psi) cold.

CMA explained that the subject tires are marketed with the correct maximum load rating and corresponding inflation pressure in both English and Metric units. The affected tires have English units on one sidewall and Metric units on the other sidewall. The noncompliance being that both English and Metric units do not both appear on each sidewall.

CMA stated that it believes the noncompliance is inconsequential to motor vehicle safety because correct maximum load rating and corresponding inflation pressure information is marked on each tire in both English and Metric units. Therefore, that information is readily available to anyone who uses the tires.

CMA requested that NHTSA consider its petition and grant an exemption from the recall requirements of the National Traffic and Motor Vehicle Safety Act on the basis that the noncompliance described above is inconsequential as it relates to motor vehicle safety.

NHTSA Decision

The agency agrees with CMA that the noncompliance is inconsequential to motor vehicle safety. The agency believes that the true measure of inconsequentiality to motor vehicle safety in this case is that there is no effect on the operational safety of vehicles on which these tires are mounted.

While the correct tire inflation pressure is included on the subject tire sidewalls, it is not marked in both English and Metric unit systems on each sidewall as required by S6.5(d). However, because the tire inflation pressure is available and stated correctly on each tire, in each unit system, albeit separately, it is unlikely that a consumer will not find or will misread pressure units due to the noncompliance. Therefore, the tires, as labeled, are likely to achieve the safety purpose of the standard. In the agency's judgment, the subject incorrect labeling of the tire inflation pressure information will have an inconsequential effect on motor vehicle safety.

In consideration of the foregoing, NHTSA has decided that CMA has met its burden of persuasion that the subject FMVSS No. 119 labeling noncompliance is inconsequential to motor vehicle safety. Accordingly, CMA's petition is granted and the petitioner is exempted from the obligation of providing notification of, and a remedy for, the subject noncompliance under 49 U.S.C. 30118 and 30120.

Authority: (49 U.S.C. 30118, 30120: delegations of authority at CFR 1.50 and 501.8).

Issued on: April 1, 2010.
Claude Harris,
Director, Office of Vehicle Safety Compliance.

[FR Doc. 2010-7866 Filed 4-6-10; 8:45 am]

BILLING CODE 4910-59-P